DEPARTMENT OF TRANSPORTATION

Federal Aviation Administration

14 CFR Part 39

[Docket No. FAA-2009-0489; Directorate Identifier 2009-CE-025-AD; Amendment 39-16000; AD 2009-18-04]

RIN 2120-AA64

Airworthiness Directives; Air Tractor, Inc. Models AT-802 and AT-802A Airplanes

AGENCY: Federal Aviation Administration (FAA), Department of Transportation (DOT).

ACTION: Final rule.

SUMMARY: We are adopting a new airworthiness directive (AD) for certain Air Tractor, Inc. Models AT-802 and AT-802A airplanes. This AD requires installing a rudder-aileron interconnect cable system shield kit and securing any items stowed in the baggage compartment, using tie downs and/or a cargo net until the cable shield kit is installed. We are issuing this AD to prevent jamming of the rudder-aileron interconnect cables by unsecured items in the baggage compartment, which could result in failure of the rudder-aileron interconnect cable system. This failure could lead to loss of control.

DATES: This AD becomes effective on October 1, 2009.

On October 1, 2009, the Director of the Federal Register approved the incorporation by reference of certain publications listed in this AD.

ADDRESSES: For service information identified in this AD, contact Air Tractor, Inc., P.O. Box 485, Olney, Texas 76374; telephone: (940) 564-5616; facsimile: (940) 564-5612; E-mail: parts@airtractor.com; Internet: http://www.airtractor.com.

To view the AD docket, go to U.S. Department of Transportation, Docket Operations, M-30, West Building Ground Floor, Room W12-140, 1200 New Jersey Avenue, SE., Washington, DC 20590, or on the Internet at http://www.regulations.gov. The docket number is FAA-2009-0489; Directorate Identifier 2009-CE-025-AD.

FOR FURTHER INFORMATION CONTACT: Andy McAnaul, Aerospace Engineer, 10100 Reunion Pl., Ste. 650, San Antonio, Texas 78216; telephone: (210) 308-3365; fax: (210) 308-3370.

SUPPLEMENTARY INFORMATION:

Discussion

On May 20, 2009, we issued a proposal to amend part 39 of the Federal Aviation Regulations (14 CFR part 39) to include an AD that would apply to certain Models AT-802 and AT-802A airplanes. This proposal was published in the Federal Register as a notice of proposed rulemaking (NPRM) on May 29, 2009 (74 FR 25684). The NPRM proposed to require installing a rudder-aileron interconnect cable system shield kit and securing any items stowed in the baggage compartment, using tie downs and/or a cargo net until the cable shield kit is installed.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 210 airplanes in the U.S. registry.

We estimate the following costs to do the modification:

Labor cost | Parts cost | Total cost per airplane | Total cost on U.S. operators
Cable Shield Kit SL#274: 4.5 work-hours × $80 per hour = $360 | $860 | affects 170 airplanes at $1,220 each | $207,400
Cable Shield Kit SL#274-2: 4.5 work-hours × $80 per hour = $360 | 540 | affects 40 airplanes at $900 each | 36,000

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2009-0489; Directorate Identifier 2009-CE-025-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2009-18-04 Air Tractor, Inc.: Amendment 39-16000; Docket No. FAA-2009-0489; Directorate Identifier 2009-CE-025-AD.

Effective Date

(a) This AD becomes effective on October 1, 2009.

Affected ADs

(b) None.

Applicability

(c) This AD applies to Models AT-802 and AT-802A airplanes, serial numbers 802/802A-001 through 802/802A-0319, that are certificated in any category.

Unsafe Condition

(d) This AD results from a report of the rudder pedal cable becoming jammed in flight. We are proposing this AD to prevent jamming of the rudder-aileron interconnect cables by unsecured items in the baggage compartment, which could result in failure of the rudder-aileron interconnect cable system. This failure could lead to loss of control.

Compliance

(e) To address this problem, you must do the following, unless already done:

Actions | Compliance | Procedures
(1) Secure any items stowed in the baggage compartment using tie down straps and/or a cargo net | Before further flight after October 1, 2009 (the effective date of this AD) until the installation of the rudder-aileron interconnect cable shield kit required in paragraph (e)(2) of this AD is done | Not applicable.
(2) Install the following rudder-aileron interconnect cable shield kit, as applicable | No later than December 31, 2009 | Snow Engineering Co., Service Letter #274, Revision A, dated April 6, 2009.
(i) For all airplanes equipped for agricultural spray operations and all fire-fighting airplanes retrofitted with Gen II Fire Retardant Delivery System relay box, install cable shield kit SL#274
(ii) For all fire-fighting airplanes not equipped with Gen II Fire Retardant Delivery System relay box, install cable shield kit SL#274-2
(iii) Installation of the applicable cable shield kit SL#274 or SL#274-2 terminates the requirement of paragraph (e)(1) of this AD

Alternative Methods of Compliance (AMOCs)

(f) The Manager, Fort Worth Airplane Certification Office, FAA, has the authority to approve AMOCs for this AD, if requested using the procedures found in 14 CFR 39.19. Send information to ATTN: Andy McAnaul, Aerospace Engineer, 10100 Reunion Pl., Ste. 650, San Antonio, Texas 78216; telephone: (210) 308-3365; fax: (210) 308-3370. Before using any approved AMOC on any airplane to which the AMOC applies, notify your appropriate principal inspector (PI) in the FAA Flight Standards District Office (FSDO), or lacking a PI, your local FSDO.

Material Incorporated by Reference

(g) You must use Snow Engineering Co., Service Letter #274, Revision A, dated April 6, 2009, to do the actions required by this AD, unless the AD specifies otherwise.

(1) The Director of the Federal Register approved the incorporation by reference of this service information under 5 U.S.C. 552(a) and 1 CFR part 51.

(2) For service information identified in this AD, contact Air Tractor, Inc., P.O. Box 485, Olney, Texas 76374; telephone: (940) 564-5616; facsimile: (940) 564-5612; e-mail: parts@airtractor.com; Internet: http://www.airtractor.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on August 18, 2009.
Scott A. Horn,
Acting Manager, Small Airplane Directorate, Aircraft Certification Service.

[FR Doc. E9-20385 Filed 8-26-09; 8:45 am]

BILLING CODE 4910-13-P